DEPARTMENT OF COMMERCE

National Oceanic and Atmospheric Administration

[XRIN 0648-XX006]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. This Exempted Fishing Permit would exempt four commercial fishing vessels from limited access sea scallop regulations in support of a study looking at how a new gear type in the scallop fishery would reduce bycatch, minimize habitat impacts, and improve fuel efficiency.

Regulations under the Magnuson-Stevens Fishery Conservation and Management Act require publication of this notification to provide interested parties the opportunity to comment on applications for proposed Exempted Fishing Permits.

DATES: Comments must be received on or before September 4, 2019.

ADDRESSES: You may submit written comments by any of the following methods:

• Email: nmfs.gar.efp@noaa.gov. Include in the subject line “DA19-067 CFRF N-Viro Dredge Study EFP.”

• Mail: Michael Pentony, Regional Administrator, NMFS, Greater Atlantic Regional Fisheries Office, 55 Great Republic Drive, Gloucester, MA 01930. Mark the outside of the envelope “DA19-CFRF N-Viro Dredge Study EFP.”

FOR FURTHER INFORMATION CONTACT: Shannah Jaburek, Fishery Management Specialist, 978-282-8456.

SUPPLEMENTARY INFORMATION: The Commercial Fisheries Research Foundation (CFRF) submitted a complete application for an EFP on June 12, 2019, for a 2019 Scallop Research Set-Aside (RSA) project titled “Piloting a Novel Dredge Type to Reduce Bycatch and Improve Fuel Efficiency in the Southern New England Scallop Fishery.” This project was funded under the 2019 Atlantic Sea Scallop RSA Program. Researchers expect to start the first trip for this project as soon as the EFP is issued. This project would look at how the modified dredge (the N-Viro dredge), a new gear type in the scallop fishery, would reduce bycatch, minimize habitat impacts by minimizing dredge penetration into and resistance along the seafloor, and improve fuel efficiency by towing at lower speeds.

Participating vessels would conduct scallop dredging for 12 months from date of issue. The study would use both limited access general category (LAGC) and limited access (LA) vessels. The LA component would consist of one 5-day trip conducting 80 total paired tows with the N-Viro dredge. The N-Viro dredge is a 15-ft (4.57-m) tow bar fitted with five smaller dredges connected to the tow bar. Each smaller dredge is 2 ft (0.61 m) wide with a 10-in (25.4-cm) twine top and 4 rows of rings in the apron. Additionally each smaller dredge would be outfitted with a turtle chain mat. The project would conduct 40 of the 80 tows with the turtle deflector dredge control dredge west of 71° W longitude and the remaining 40 tows with the standard New Bedford style control dredge east of 71° W longitude.

The LAGC component of the project would use three LAGC vessels that would complete a total of 30 research days-at-sea (DAS). Each vessel would complete 10 DAS, with 5 days devoted to fishing with the N-viro dredge and 5 days devoted to carrying either a New Bedford or Provincetown style control dredge. Each LAGC vessel would tow an N-viro dredge that has a 10-ft (3.05-m) tow bar with three smaller dredges connected to it. The construction of each smaller dredge for the LAGC component is identical to the LA component. The LAGC fleet would utilize either a Provincetown or New Bedford style dredge common in the fishery as a control dredge.

All tows for both LA and LAGC vessels would be 10 minutes at varying depths and substrates. Tow time may be adjusted as needed based on dredge performance. For all tows, the entire sea scallop catch would be counted into baskets and weighed. All finfish catch would be sorted by species and then counted and measured. With the exception of samples retained for further processing for scientific purposes, no catch would be retained for longer than needed to conduct sampling, and no catch would be landed for sale on the LA trip. On LAGC trips, scallop and monkfish catch would be kept for sale in accordance with current regulations, but all other catch will be handled in the same manner as the LA research trip.

CFRF needs these exemptions to allow them to conduct experimental dredge towing without being charged DAS. Participating vessels need crew size waivers to accommodate science personnel. Exemptions are also needed from the turtle deflector dredge requirements for testing of an experimental dredge that has a slightly different configuration that the current gear requirements. Possession waivers would enable researchers to sample finfish catch that exceeds possession limits or prohibitions. The project would be exempt from the sea scallop observer program requirements because activities conducted on the trip are not consistent with normal fishing operations. Researchers from CFRF will accompany each trip taken under the EFP.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: August 15, 2019.
Alan D. Risenhoover,
Director, Office of Sustainable Fisheries, National Marine Fisheries Service.

[FR Doc. 2019-17916 Filed 8-19-19; 8:45 am]

BILLING CODE 3510-22-P